DEPARTMENT OF TRANSPORTATION

Federal Highway Administration

Environmental Impact Statement; Maricopa County, Arizona

AGENCY: Federal Highway Administration (FHWA), DOT.

ACTION: Notice of Intent.

SUMMARY: The FHWA is issuing this notice to advise the public that an Environmental Impact Statement (EIS) will be prepared for a proposed highway project within Maricopa County, Arizona.

FOR FURTHER INFORMATION CONTACT: Kenneth H. Davis, District Engineer, Federal Highway Administration, 234 North Central Ave, Suite 330, Phoenix, AZ 85004, Telephone (602) 379-3646.

SUPPLEMENTARY INFORMATION: The FHWA, in cooperation with the Arizona Department of Transportation (ADOT), will prepare an EIS for a proposal to build improvements on Interstate 10 from Buckeye Road to Baseline Road in Maricopa County, Arizona. The proposed project will involve construction of facilities to provide safety, capacity, and operational improvements in the I-10 corridor within the study limits. The evaluation of alternatives will consider the social, economic, and environmental impacts to residential and commercial development, including Sky Harbor International Airport, cultural resources, historic roads and canals, Endangered Species, jurisdictional waters of the U.S., air and noise quality, and hazardous waste. Improvements to the corridor are considered necessary to provide for the existing and projected traffic demand. A full range of reasonable alternatives will be considered including (1) no action; (2) alternative travel modes; (3) transportation system management improvements; (4) Collector-Distributor Road System and (5) mainline freeway improvements.

Letters describing the proposed action and soliciting comments will be sent to appropriate Federal, State, and local agencies including the Environmental Protection Agency, U.S. Army Corps of Engineers, Bureau of Indian Affairs, Bureau of Land Management, U.S. Fish and Wildlife Service, Federal Aviation Agency, Arizona State Land Department, Arizona Game & Fish Department, City of Phoenix, City of Tempe, Maricopa County and Maricopa Association of Governments. Letters will also be sent to interested parties including, the South Mountain Village Planning Committee, Central City Village Planning Committee and appropriate Tempe neighborhood associations.

A series of public meetings will be held in the communities within the proposed study area. In addition, a public hearing will be held. Prior to the meetings and hearing, public notice will be provided advising of the time and place. A formal agency scoping meeting is planned between Federal, State, City, and County stakeholders.

To insure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on January 29, 2002.
Kenneth H. Davis,
District Engineer, Phoenix.

[FR Doc. 02-2565 Filed 2-1-02; 8:45 am]

BILLING CODE 4910-22-M